FEDERAL RETIREMENT THRIFT INVESTMENT BOARD

Sunshine Act; Notice of Meeting

TIME AND DATE: 10 a.m. (Eastern Time), June 21, 2010.

PLACE: 4th Floor Conference Room, 1250 H Street, NW., Washington, DC 20005.

STATUS: Open to the public.

MATTERS TO BE CONSIDERED: 1. Approval of the minutes of the May 17, 2010 Board member meeting.

2. Thrift Savings Plan activity report by the Executive Director.

a. Monthly Participant Activity Report.

b. Monthly Investment Performance Review.

c. Legislative Report.

CONTACT PERSON FOR MORE INFORMATION: Thomas J. Trabucco, Director, Office of External Affairs, (202) 942-1640.

Dated: June 11, 2010.
Megan G. Grumbine,
Secretary (Acting), Federal Retirement Thrift Investment Board.

[FR Doc. 2010-14523 Filed 6-11-10; 4:15 pm]

BILLING CODE 6760-01-P